DEPARTMENT OF THE INTERIOR

National Park Service

National Register of Historic Places; Notification of Pending Nominations and Related Actions

Nominations for the following properties being considered for listing or related actions in the National Register were received by the National Park Service before August 5, 2006.

Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by September 11, 2006.

John W. Roberts,
Acting Chief, National Register/National Historic Landmarks Program.

KENTUCKY

Jefferson County

Mockingbird Balley Historic District, Roughly bounded by River Rd., Indian Hills Trail, Fairway, Swing, Brownsboro, Jarvis, and Green Ridge Ln., Louisville, 06000815

Portland Proper, 31st St. and Northwestern Pkwy, Louisville, 06000812

Laurel County

Wildcat Mountain Battlefield (Boundary Increase), Jct. of Old Wilderness Rd and Winding Blade Rd., Hazel Patch Rd., East Bernstadt, 06000808

Letcher County

Whitesburg Historic District, Portions of Main Sts., Broadway, Bentley, Webb, and Hayes Aves., Church, Pine, Cowan, Madison Sts, River Rd., Hazard Rd., Whitesburg, 06000813

Madison County

Tate Building, 444 Chestnut St., Berea, 06000814

Martin County

Martin County Courthouse, 10 Courthouse St., Inez, 06000811

Oldham County

Wooldridge—Rose House, 315 Wooldridge Ave., Pewee Valley, 06000810

Taylor County

Battle of Tebbs Bend (Boundary Increase), Off KY55, W of Tebbs Bend Rd. and the Green R, Campbellsville, 06000807

Warren County

Modern Automotive District, 538 State, 600 State, 601 State St., Bowling Green, 06000809

MARYLAND

Frederick County

Eyler, John, Farmstead, 7216 Eylers Valley Flint Rd., Thurmont, 06000817

MASSACHUSETTS

Norfolk County

Pratt, Paul, Memorial Library, 106 S. Main St., Cohasset, 06000816

NEW YORK

Bronx County

Grace Episcopal Church, 116 City Island Ave., Bronx, 06000820

New York County

Burden, James A. Jr., House and Kahn, Otto H., House, 70 and 1 E. 91st St., New York, 06000821

Upper East Side Historic District (Boundary Increase), Portion of 17 blks adjacent to and E of the original district bet. E. 60th and E 75th Sts., New York, 06000822

TEXAS

Dallas County

Dallas Times Herald Pasadena Perfect Home, 6938 Wildgrove Ave., Dallas, 06000819

Harris County

Minella, Angelo and Lillian, House, 6328 Brookside Dr., Houston, 06000818

Palace Hotel, 216 La Branch, Houston, 06000825

Hunt County

Blanton School, (Rosenwald School Building Program in Texas MPS) 610 Witt St., Wolfe City, 06000823

Milam County

International & Great Northern Railroad Passenger Depot, 11 N. Main St., Rockdale, 06000824

A request for Removal has been made for the following resources:

IOWA

Dickinson County

Dickinson County Courthouse (County Courthouses in Iowa TR) Hill Ave. Spirit Lake, 81000235

Templar Park NE of Orleans on IA 276, Orleans vicinity 77000511

[FR Doc. E6-14102 Filed 8-24-06; 8:45 am]

BILLING CODE 4312-51-P